DEPARTMENT OF COMMERCE

National Oceanic and Atmospheric Administration

50 CFR Part 660

[I.D. 082806B]

RIN 0648-AU57

Fisheries Off West Coast States; Notice of Availability for Amendment 16-4 to the Pacific Coast Groundfish Fishery Management Plan

AGENCY: National Marine Fisheries Service (NMFS), National Oceanic and Atmospheric Administration (NOAA), Commerce.

ACTION: Availability of an amendment to a fishery management plan; request for comments.

SUMMARY: NMFS announces that the Pacific Fishery Management Council (Council) has submitted Amendment 16-4 to the Pacific Coast Groundfish Fishery Management Plan (FMP) for Secretarial review. Amendment 16-4 would modify the FMP to implement revised rebuilding plans for seven overfished species: bocaccio, canary rockfish, cowcod, darkblotched rockfish, Pacific ocean perch, widow rockfish, and yelloweye rockfish. Amendment 16-4 is intended to respond to 9th Circuit Court of Appeals orders to establish rebuilding plans that rebuild overfished stocks as soon as possible, taking into account the status and biology of the stocks, the needs of fishing communities, and the interaction of the overfished stocks within the marine environment.

DATES: Comments on Amendment 16-4 must be received on or before October 31, 2006.

ADDRESSES: You may submit comments, identified by [insert I.D number] by any of the following methods:

• E-mail: Amendment16-4.nwr@noaa.gov. Include the I.D. number in the subject line of the message.

• Federal eRulemaking Portal: http://www.regulations.gov. Follow the instructions for submitting comments.

• Fax: 206-526-6736, Attn: Yvonne deReynier.

• Mail: D. Robert Lohn, Administrator, Northwest Region,

NMFS, Attn: Yvonne deReynier, 7600 Sand Point Way NE, Seattle, WA 98115-0070.

Amendment 16-4 and its associated draft environmental impact statement (DEIS), regulatory impact review, and initial regulatory flexibility analysis (IRFA) are available for public review during business hours at the office of the Pacific Fishery Management Council (Council), at 7700 NE Ambassador Place, Portland, OR 97220, phone: 503-820-2280. Copies of additional reports referred to in this document may also be obtained from the Council. These documents are also available online at: http://www.pcouncil.org.

FOR FURTHER INFORMATION CONTACT: Yvonne deReynier (Northwest Region, NMFS), phone: 206-526-6129; fax: 206-526-6736; and e-mail: yvonne.dereynier@noaa.gov.

SUPPLEMENTARY INFORMATION:

Electronic Access

This Federal Register document is also accessible via the internet at the Web site of the Office of the Federal Register: http://www.access.gpo.gov/su-docs/aces/aces140.html.

The Magnuson-Stevens Fishery Conservation and Management Act (Magnuson-Stevens Act) requires that each regional fishery management council submit any FMP or plan amendment it prepares to NMFS for review and approval, disapproval, or partial approval. The Magnuson-Stevens Act also requires that NMFS, upon receiving an FMP or amendment, immediately publish a notice that the FMP or amendment is available for public review and comment. NMFS will consider public comments received during the comment period described above in determining whether to approve Amendment 16-4 to the FMP.

Amendment 16-4 would modify the FMP to implement revised rebuilding plans for the FMP's seven overfished species: bocaccio, canary rockfish, cowcod, darkblotched rockfish, Pacific ocean perch, widow rockfish, and yelloweye rockfish. The Council developed Amendment 16-4 in concert with the 2007-2008 biennial groundfish harvest specifications and management measures, with the intent that management measures for all groundfish species would constrain the fisheries to within optimum yield levels. Amendment 16-4 is intended to respond to court orders in Natural Resources Defense Council v. NMFS, 421 F.3d 872 (9th Cir. 2005) to rebuild overfished species as quickly as possible, taking into account the status and biology of the stocks, the needs of fishing communities, and the interaction of overfished stocks with the marine environment. Regulations to implement Amendment 16-4, as separate from those to implement the 2007-2008 groundfish harvest specifications and management measures, would revise 50 CFR 660.365 to provide new target rebuilding years and harvest control rules for the seven species managed under rebuilding plans.

NMFS welcomes comments on the proposed FMP amendment through the end of the comment period. A proposed rule to implement Amendment 16-4 has been submitted for Secretarial review and approval. NMFS expects to publish and request public review and comment on proposed regulations to implement Amendment 16-4 in the near future. Public comments on the proposed rule must be received by the end of the comment period on the amendment to be considered in the approval/disapproval decision on the amendment. All comments received by the end of the comment period for the amendment, whether specifically directed to the amendment or the proposed rule, will be considered in the approval/disapproval decision.

Authority: 16 U.S.C. 1801 et seq.

Dated: August 28, 2006.
Alan D. Risenhoover,
Director, Office of Sustainable Fisheries, National Marine Fisheries Service.

[FR Doc. E6-14558 Filed 8-31-06; 8:45 am]

BILLING CODE 3510-22-S